DEPARTMENT OF HEALTH AND HUMAN SERVICES

Centers for Disease Control and Prevention

[Program Announcement 01133]

National Programs to Support Healthy Aging; Notice of Availability of Funds

A. Purpose

The Centers for Disease Control and Prevention (CDC) announces the availability of fiscal year (FY) 2001 funds for a cooperative agreement program for “National Programs to Support Healthy Aging”. This program addresses the “Healthy People 2010” focus areas of Access to Quality Health Services, Educational and Community Based Programs, and Physical Activity and Fitness.

The purpose of the program is to establish national partnerships to enhance health and quality of life for older adults through a broad national strategy to: (1) Promote oral, physical, and mental health and healthy behaviors and practices, (2) reduce the impact of injuries and chronic diseases, and (3) maintain function and independence for older Americans.

This program consists of four parts. Furthermore, Parts I, II, and IV have additional Special Emphasis Areas. To qualify for funding under a Special Emphasis Area, the applicant must apply and be approved for funding under the respective part (i.e., Part I, II, or IV).

Part I—to strengthen and enhance collaborations between health departments at the state and local level and community organizations/networks that focus on older adults to promote behaviors and practices that lead to improved oral, physical, and mental health and more fulfilling and satisfying lives.

Part I, Special Emphasis Area One—to expand activities that promote physical activity in older adults.

Part I, Special Emphasis Area Two—to expand activities that promote immunizations for older adults.

Part II—to strengthen the capacity of national, state, and/or local agencies to conduct and evaluate culturally-appropriate programs that improve oral, physical, and mental health, reduce the impact of injuries and chronic diseases, and maintain function and independence for older Americans.

Part II, Special Emphasis Area—to identify programmatic best practices in community-based health promotion and disease prevention.

Part III—to support a planning committee and conduct a workshop/conference to assess the public health impact of the aging of America's workforce.

Part IV—to develop consumer education tools and strategies to improve oral, physical, and mental health, reduce the impact of disease and injury, and delay disability and the need for long-term care among older adults, including those in minority and other under-served communities.

Part IV, Special Emphasis Area—to assess the knowledge and beliefs specific to falls, fall risks, driving safely, and driving cessation.

B. Eligible Applicants

Assistance will be provided only to private, not-for-profit 501(c)(3) national organizations whose mission is to serve the health and well-being of older Americans. Affiliate offices and local, state, or regional membership constituencies may not apply in lieu of, or on behalf of, their national office.

Eligible applicants will be national voluntary organizations and must have established working relationships with affiliate offices or chapters or local, state, or regional membership constituencies in states and territories in order to provide nationwide geographical coverage for the dissemination of aging information and programs.

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $500,000 is available in FY 2001 to fund the following categories:

Part I—Approximately $100,000 will be available to fund one award.

Part I, Special Emphasis Area One—Approximately $50,000 will be available to fund one award.

Part I, Special Emphasis Area Two—Approximately $50,000 will be available to fund one award.

Part II—Approximately $50,000 will be available to fund one award.

Part II, Special Emphasis Area—Approximately $50,000 will be available to fund one award.

Part III—Approximately $50,000 will be available to fund one award.

Part IV—Approximately $100,000 will be available to fund one award.

Part IV, Special Emphasis Area—Approximately $50,000 is available to fund one award.

It is expected that the awards will begin on or about September 30, 2001, and will be made for a 12-month budget period within a project period of up to five years. Funding estimates may change.

Continuation awards within an approved project period will be made on the basis of satisfactory progress as evidenced by required reports and the availability of funds.

D. Program Requirements

In conducting activities to achieve the purposes of this program, the recipient will be responsible for the activities under 1. (Recipient Activities), and CDC will be responsible for the activities listed under 2. (CDC Activities).

1. Recipient Activities

The applicant should propose activities in one or more of the following four areas:

Part I—Develop mechanisms to:

a. Provide resources to health departments at the state and local level and community organizations/networks that focus on older adults to promote healthy behaviors and practices;

b. Develop communications resources for use by community organizations and older adults, including but not limited to information, materials and toolkits;

c. Develop tools to help communities inventory and publicize their resources; and

d. Integrate health plans and other health care resources into community demonstration projects.

Part I, Special Emphasis Area One:

Develop mechanisms described above that:

a. Focus on promotion of physical activity in older adults;

b. Promote active community environments that allow people in all ranges of abilities to have opportunities for safe and active travel and recreation (of particular importance is that communities be walkable and bikable);

c. Help agencies improve communications with older adults about physical activity;

d. Assist communities in improving the walkability of their built environment; and

e. Promote inter-generational programs.

Part I, Special Emphasis Area Two:

Develop mechanisms described above that:

a. Focus on promotion of immunizations in older adults;

b. Help agencies enhance awareness of the importance of immunizations for older adults; and

c. Link health care services funded under Medicare to community agencies and services.

Part II—Strengthen the capacity of national, state, and/or local agencies to conduct and evaluate the objectives of this part by:

a. Identifying innovative health and supportive programs for older adults;

b. Conducting systematic review and synthesis of quality programs including organizational capacity, resource requirements and outcomes achieved; and

c. Disseminating findings.

Part II, Special Emphasis Area—Identify and assess community-based health promotion and disease prevention programs by:

a. Assessing the quality of evaluation used for these programs; and

b. Compiling a “best practices” document suitable for use by national, state and local agencies.

Part III—Review and synthesize available information about:

a. Demographic trends of America's workforce;

b. Occupations that are expected to have the highest concentration of older workers;

c. Physiological, cognitive, and career changes that typically occur with aging;

d. Barriers encountered by older workers;

e. Occupational health and safety experience of older workers and the implications of this information for creating a healthier workplace for older workers;

f. Attempts to modify the work environment for older workers; and

g. Information gaps/needs.

Part IV—Assess consumer education tools and strategies by:

a. Conducting consumer research and marketing, e.g. focus groups, among older adults, including those from minority and other under-served communities; and

b. Developing recommendations and strategies for group-specific future interventions, educational messages, and programs according to the findings.

Part IV, Special Emphasis Area—Conduct consumer marketing that focuses on fall risks, fall injuries, prevention of falls, resources for assistance and information, e.g. medication review, home modification, exercise, vision, safe driving, decision-making about stopping driving due to age-related disability, resources for assistance and continued mobility, and self-efficacy in taking action.

2. CDC Activities

a. Collaborate in planning, implementing, and evaluating strategies and programs.

b. Assist in the analysis and interpretation of the evaluation phase of projects or programs.

c. Provide programmatic consultation and guidance in support of the program.

d. Assist in the planning and implementation of linkages with local and national aging organizations or agencies.

E. Application Content

Use the information in the Program Requirements, Other Requirements, and Evaluation Criteria sections to develop the application content. Your application will be evaluated on the criteria listed, so it is important to follow them in laying out your program plan. Applicant is required to submit an original and two copies of the application. The application, excluding appendices, should not exceed 20 pages. Pages should be clearly numbered and a complete index to the application and any appendices should be included. The original and each copy of the application should be submitted unstapled and unbound. All materials should be typewritten, double-spaced, with unreduced type on 8½″ by 11″ paper, with at least 1″ margins, headers and footers, and printed on one side only.

Applicants may apply for support under one or more of the four parts. Only one set of application forms should be submitted. However, for each part and special emphasis area, the applicant should include a separate and complete narrative, separate budget, and budget justification that can stand alone as an application for review purposes.

Application should be organized in the following sections.

1. Executive Summary

Provide a clear, concise, and objectively written statement of the major objectives and components of proposed activities, proposed time frame, and evaluation plan. Document your organization's national affiliate network including proof of your non-profit status.

2. Existing Resources and Needs Assessment

Describe the organizational capacity for the proposed activities. Describe relevant experience and expertise to perform the proposed activities.

3. Collaborative Relationships

Describe collaborative relationships with other agencies and organizations that will be involved in the proposed activities. Include letters of support and commitment by collaborators where appropriate.

4. Operational and Evaluation Plan

Describe the specific outcome and process objectives for each proposed project, the major steps required to achieve the objectives, and a projected timetable for completion that displays dates for the accomplishment of specific proposed activities. Describe how achievement of outcome and process objectives, and program effectiveness will be evaluated.

5. Management and Staffing Plan

Describe how the program will be effectively managed including:

a. Management structure including the lines of authority and plans for fiscal control.

b. Staff positions responsible for implementation of the program.

c. Qualifications and experience of the designated staff.

6. Budget and Justification

Provide a detailed budget request and line-item justification of all proposed operating expenses.

F. Submission and Deadline

Application

Submit the original and two copies of PHS 5161-1 (OMB Number 0920-0428). Forms are available in the application kit and at the following Internet address: http://forms.psc.gov.

On or before July 12, 2001, submit the application to the Grants Management Specialist identified in the “Where to Obtain Additional Information” section of this announcement.

Deadline: Applications shall be considered as meeting the deadline if they are either:

1. Received on or before the deadline date; or

2. Sent on or before the deadline date and received in time for orderly processing. (Applicants must request a legibly dated U.S. Postal Service postmark or obtain a legibly dated receipt from a commercial carrier or U.S. Postal Service. Private, metered postmarks shall not be acceptable as proof of timely mailing.)

Late Applications: Applications which do not meet the criteria in 1. or 2. above are considered late applications, will not be considered, and will be returned to the applicant.

G. Evaluation Criteria (100 Points)

Each application will be evaluated individually against the following criteria by an independent review group.

1. Resources and Experience: (25 points)

The extent to which the applicant provides evidence of experience and expertise for the proposed projects.

2. Collaboration: (15 points)

The extent to which the applicant provides evidence of collaborative relationships with other agencies and organizations relevant to successful completion of the proposed projects.

3. Proposed Operational and Evaluation Plan: (35 points)

The extent to which the applicant:

a. Clearly identifies the specific outcome and process objectives for the proposed projects, and the major steps required to meet the objectives;

b. provides a realistic plan for collaboration with partners in the project; and

c. proposes an evaluation plan that is likely to provide meaningful information about the achievement of the project's objectives.

4. Proposed Implementation Schedule: (10 points)

The extent to which the projected timetable for completion of tasks and for meeting objectives is reasonable and realistic.

5. Project Management and Staffing Plan: (15 points)

The extent to which the applicant demonstrates management structure and staff positions with clear lines of authority and plans for fiscal control, and that designated staff have appropriate qualifications and experience.

6. Budget: (Not Scored)

The extent to which the applicant provides a detailed budget and justification consistent with the proposed program objectives and activities.

7. Human Subjects: (Not Scored)

The degree to which the applicant has met the CDC Policy requirements regarding the inclusion of women, ethnic, and racial groups in the proposed research. This includes:

a. The proposed plan for the inclusion of both sexes and racial and ethnic minority populations for appropriate representation.

b. The proposed justification when representation is limited or absent.

c. A statement as to whether the design of the study is adequate to measure differences when warranted.

d. A statement as to whether the plans for recruitment and outreach for study participants include the process of establishing partnerships with community(ies) and recognition of mutual benefits.

H. Other Requirements

Technical Reporting Requirements

Provide CDC with an original plus two copies of:

1. Semiannual progress reports;

2. financial status report, no more than 90 days after the end of the budget period; and

3. final financial and performance reports, no more than 90 days after the end of the project period.

Send all reports to the Grants Management Specialist identified in the “Where to Obtain Additional Information” section of this announcement.

The following additional requirements are applicable to this program. For a complete description of each, see Attachment I in the application kit.

AR-1 Human Subjects Requirements

AR-2 Requirements for Inclusion of Women and Racial and Ethnic Minorities in Research

AR-7 Executive Order 12372 Review

AR-8 Public Health System Reporting Requirements

AR-9 Paperwork Reduction Act Requirements

AR-10 Smoke-Free Workplace Requirements

AR-11 Healthy People 2010

AR-12 Lobbying Restrictions

AR-14 Accounting System

AR-15 Proof of Non-Profit Status

I. Authority and Catalog of Federal Domestic Assistance Number

This program is authorized under the sections 301(a) and 317(k)(2) of the Public Health Service Act, [42 U.S.C. 241(a) and 247b(k)(2)], as amended. The Catalog of Federal Domestic Assistance number is 93.283.

J. Where To Obtain Additional Information

This and other CDC announcements can be found on the CDC home page Internet address http://www.cdc.gov Click on “Funding” then “Grants and Cooperative Agreements.”

Should you have questions after reviewing the contents of all the documents, business management assistance may be obtained from: Nealean Austin, Grants Management Specialist, Grants Management Branch, Procurement and Grants Office, Announcement 01133, Centers for Disease Control and Prevention, 2920 Brandywine Road, Room 3000, Atlanta, GA 30341-4146, Telephone (770) 488-2754, Email: neal@cdc.gov.

For program technical assistance, contact: Mike Waller, Centers for Disease Control and Prevention, Division of Adult and Community Health, National Center for Chronic Disease Prevention and Health Promotion, 4770 Buford Highway NE, Atlanta, GA, 30341-3717, Telephone: (770) 488-5264 Email: mnw1@cdc.gov.

Dated: June 7, 2001.
John L. Williams,
Director, Procurement and Grants Office, Centers for Disease Control and Prevention (CDC).

[FR Doc. 01-14859 Filed 6-12-01; 8:45 am]

BILLING CODE 4163-18-P